DEPARTMENT OF EDUCATION

National Advisory Committee on Institutional Quality and Integrity (NACIQI) Meeting

AGENCY: National Advisory Committee on Institutional Quality and Integrity, Office of Postsecondary Education, Department of Education.

ACTION: Notice of December 1-3, 2010 meeting of the National Advisory Committee on Institutional Quality and Integrity (NACIQI); changes to the proposed agenda for the meeting; and information related to members of the public making third-party oral comments at the meeting.

SUMMARY: This notice sets forth changes to the proposed December 1-3, 2010 NACIQI meeting agenda that was published in the August 23, 2010 Federal Register (75 FR 21280); a complete listing of the proposed agenda items for the December 1-3, 2010 NACIQI meeting, as revised; and information related to members of the public making oral comments at the meeting. The notice of this meeting is required under section 10(a)(2) of the Federal Advisory Committee Act (FACA) and section 114(d)(1)(B) of the Higher Education Act (HEA).

ADDRESSES: U.S. Department of Education, Office of Postsecondary Education, 1990 K Street, NW., Room 8060, Washington, DC 20006.

SUPPLEMENTARY INFORMATION: Meeting Date and Place: The NACIQI meeting will be held on December 1-3, 2010, from 8:30 a.m. to approximately 5:30 p.m., Eastern Standard Time, at the U.S. Department of Education, Eighth Floor Conference Center, 1990 K Street, NW., Washington, DC.

Changes to Proposed Agenda: Since the publication of the August 23, 2010 Federal Register notice, the Department has added an item to the proposed agenda: The review of the National Defense University (NDU), as required by 10 U.S.C., section 2163, for the purpose of evaluating the proposed awarding of the NDU's Master of Science degree in Government Information Leadership.

Also, due to two different agencies' requests, the Department removed the Western Association of Schools and Colleges Accrediting Commission for Schools and AdvancED from the proposed December meeting agenda. The Western Association of Schools and Colleges Accrediting Commission for Schools decided to withdraw from recognition and AdvancED decided to withdraw its request for initial recognition.

Other proposed agenda topics for the December meeting will include the review of agencies that have submitted petitions for the renewal of recognition, and the review of agencies that have submitted compliance reports/interim reports.

Proposed Agenda: The following agencies are tentatively scheduled for review during the December 1-3, 2010 NACIQI meeting:

Nationally Recognized Accrediting Agencies

Compliance Reports

1. Association of Advanced Rabbinical and Talmudic Schools, Accreditation Commission.

2. Commission on Accreditation of Healthcare Management Education.

3. Council on Accreditation of Nurse Anesthesia Educational Programs.

4. Council on Education for Public Health.

5. Northwest Commission on Colleges and Universities (progress report).

6. The Higher Learning Commission of the North Central Association of Colleges and Schools.

Petitions for Renewal of Recognition

1. American Academy for Liberal Education.

2. American Board of Funeral Service Education.

3. American Speech Language Hearing Association, Council on Academic Accreditation in Audiology and Speech-Language Pathology.

4. Commission on Massage Therapy Accreditation.

5. Council on Naturopathic Medical Education.

6. Midwifery Education Accreditation Council.

7. Montessori Accreditation Council for Teacher Education, Commission on Accreditation.

8. National Accrediting Commission of Cosmetology Arts and Sciences.

State Agencies Recognized for the Approval of Nurse Education

1. Missouri State Board of Nursing.

Federal Agency Seeking Degree-Granting Authority

1. National Defense University, Washington, DC (request to award a Master of Science degree in Government Information Leadership).

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget. The Secretary uses the NACIQI as the review committee required for this purpose.

NACIQI'S Statutory Authority and Functions: The NACIQI is established under Section 114 of the Higher Education Act (HEA) as amended, 20 U.S.C. 1011c. The NACIQI advises the Secretary of Education about:

• The establishment and enforcement of the Criteria for Recognition of accrediting agencies or associations under Subpart 2, Part H, Title IV, HEA, as amended.

• The recognition of specific accrediting agencies or associations, or a specific State approval agency.

• The preparation and publication of the list of nationally recognized accrediting agencies and associations.

• The eligibility and certification process for institutions of higher education under Title IV, HEA.

• The relationship between: (1) Accreditation of institutions of higher education and the certification and eligibility of such institutions, and (2) State licensing responsibilities with respect to such institutions.

• Any other advisory functions relating to accreditation and institutional eligibility that the Secretary may prescribe.

Instructions for Making a Third-Party Oral Comment at the December 2010 NACIQI Meeting: There are two methods the public may use to make a third-party oral comment of three to five minutes concerning one of the agencies tentatively scheduled for review during the December 1-3, 2010 meeting.

The first method is to submit a written request by e-mail in advance of the meeting to make a third-party oral presentation. All individuals or groups submitting an advance request in accordance with this notice will be afforded an opportunity to speak, for up to a maximum of three minutes each. Each request must concern the recognition of a single agency or institution tentatively scheduled in this notice for review, must be received no later than November 22, 2010, and must be sent to aslrecordsmanager@ed.gov with the subject line listed as “Oral Comments re: (agency/institution name).” Your request (no more than one page maximum) must include:

1. The name, title, affiliation, mailing address, e-mail address, telephone and facsimile numbers, and Web site (if any) of the person/group requesting to speak, and

2. A brief summary of the principal points to be made during the oral presentation.

Only requests made in accordance with these instructions will result in an opportunity to speak under this method. Individuals making oral presentations may not distribute written materials at the meeting. Please do not send material directly to the NACIQI members.

The second method is to sign up on the day of the meeting to make oral comments during the NACIQI's deliberations about an agency or institution scheduled for review. The requester should provide his or her name, title, affiliation, mailing address, e-mail address, telephone and facsimile numbers, and Web site (if any). A total of up to 15 minutes during each agency's/institution's review will be allotted for commenters who sign up the day of the meeting (in addition to those commenters who signed up in advance); and, if a person or group requests to make comments in advance, they cannot also sign-up to make comments the day of the meeting. Individuals or groups that sign up on the day of the meeting will be selected on a first-come, first served basis. If selected, each commenter may speak from three to five minutes, depending on the number of individuals or groups who signed up the day of the meeting.

Members of the public will be eligible for making third-party oral comments only in accordance with these instructions. Their comments will become part of the official record and will be considered by the Department and the NACIQI in their deliberations. Individuals and groups making oral presentations may not distribute written materials at the meeting.

Oral comments about agencies seeking continued recognition or presenting a compliance/interim report must relate to the Criteria for the Recognition of Accrediting Agencies, or the Criteria and Procedures for Recognition of State Agencies for Nurse Education, which are available at http://www.ed.gov/admins/finaid/accred/index.html.

If the Committee is reviewing an agency's petition, comments must relate to whether the agency meets the Criteria for Recognition. If the Committee is reviewing an agency's compliance/interim report, comments must relate to the NACIQI's area of consideration, which will be whether the agency has demonstrated compliance with the specific criteria specified in the Department's request for the report. Third parties having concerns about agencies regarding matters outside the scope of the requested compliance report should report those concerns to Department staff.

Comments concerning the National Defense University's degree-granting authority request must relate to the criteria used to evaluate the institution. Those criteria may be obtained by submitting a request to aslrecordsmanager@ed.gov, with the subject line listed as “Request for Degree-Granting Authority Criteria.”

This notice invites third-party oral testimony, not written comment. Requests for written comments on agencies that are tentatively scheduled for review during the meeting were published in the Federal Register (75 FR 21280) on August 23, 2010. The NACIQI will receive and consider only written comments that were submitted by the September 23, 2010 deadline specified in the above referenced Federal Register notice.

Access to Records of the Meeting: The Department will post the official report of the meeting on the NACIQI Web site shortly after the meeting. Pursuant to the FACA, the public may also inspect the materials at 1990 K Street, NW., Washington, DC, by e-mailing the aslrecordsmanager@ed.gov or by calling (202) 219-7067 to schedule an appointment.

Electronic Access to this Document: You may view this document, as well as all other Department of Education documents published in the Federal Register, in text or Adobe Portable Document Format (PDF), on the Internet at the following site: http://www.ed.gov/legislation/fedregister.

To use PDF, you must have Adobe Acrobat Reader, which is available free at this site. If you have questions about using PDF, call the U.S. Government Printing Office (GPO), toll free, at 1-866-512-1830; or, in the Washington, DC area at (202) 512-0000.

Reasonable Accommodations: Individuals who will need accommodations for a disability in order to attend the December 1-3, 2010 meeting (i.e., interpreter services, assistive listening devices, and/or materials in alternative format) should contact Department staff by telephone: (202) 219-7011; or, e-mail: aslrecordsmanager@ed.gov, no later than November 22, 2010. We will attempt to meet requests after this date but cannot guarantee the availability of the requested accommodation. The meeting site is accessible.

FOR FURTHER INFORMATION: Contact Melissa Lewis, Executive Director, NACIQI, U.S. Department of Education, Room 8060, 1990 K Street, NW., Washington, DC 20006, telephone: (202) 219-7011; e-mail: Melissa.Lewis@ed.gov. Individuals who use a telecommunications device for the deaf (TDD) may call the Federal Information Relay Service at 1-800-877-8339, between 8 a.m. and 8 p.m., Eastern Standard Time, Monday through Friday.

Note: The official version of this document is the document published in the Federal Register. Free Internet access to the official edition of the Federal Register and the Code of Federal Regulations is available on GPO Access at: http://www.gpoaccess.gov/index.html.

Eduardo M. Ochoa,
Assistant Secretary for Postsecondary Education.

[FR Doc. 2010-28255 Filed 11-8-10; 8:45 am]

BILLING CODE 4000-01-P